DEPARTMENT OF THE INTERIOR

Bureau of Land Management

[NV-912-04-1990-PP-241A-006F]

Sierra Front-Northwestern Great Basin & Northeast California Resource Advisory Councils; Notice of Joint Meeting Location and Time

AGENCY: Bureau of Land Management, Interior.

ACTION: Notice of joint Meeting Location and Time for the Sierra Front-Northwestern Great Basin & Northeast California Resource Advisory Council (California & Nevada).

SUMMARY: In accordance with the Federal Land Policy and Management Act and the Federal Advisory Committee Act of 1972 (FACA), a joint meeting of the U.S. Department of the Interior, Bureau of Land Management (BLM) Sierra Front-Northwestern Great Basin & Northeast California Resource Advisory Councils (RAC), California & Nevada, will be held as indicated below. Topics for discussion at the meeting will include, but are not limited to: manager's reports of current field office activities; an interagency panel to discuss increasing tourism/recreation use and program challenges on public lands in NV/CA; discussion of a Pershing County Land Bill; an update on the Black Rock-High Rock NCA; a report on the BLM Law Enforcement Program; an update on sage grouse planning issues; a planning session for the Soldier Meadows Project in the Winnemucca Field Office; Northeast California land use planning; juniper management for Northeast California; rail banking update and additional topics the council may raise during the meeting.

Date & Time: The RACs will meet jointly on Thursday, April 29, 2004, from 8 a.m. to 5 p.m., and separately on Friday, April 30, 2004, from 8 a.m. to 3 p.m., at John Ascuaga's Nugget Hotel & Convention Center, 1100 Nugget Avenue, Sparks, Nevada. All meetings are open to the public. A general public comment period, where the public may submit oral or written comments to the RACs, will be held at 4 p.m. on Thursday, April 29, 2004.

A final detailed agenda, with any additions/corrections to agenda topics and meeting times, will be available on the internet no later than April 15, 2004, at http://www.nv.blm.gov/rac; hard copies can also be mailed or sent via FAX. Individuals who need special assistance such as sign language interpretation or other reasonable accommodations, or who wish a hard copy of the agenda, should contact Mark Struble, Carson City Field Office, 5665 Morgan Mill Road, Carson City, NV 89701, telephone (775) 885-6107, no later than April 22, 2004.

FOR FURTHER INFORMATION CONTACT: Mark Struble, Public Affairs Officer, BLM Carson City Field Office, 5665 Morgan Mill Road, Carson City, NV 89701. Telephone: (775) 885-6107. E-mail: mstruble@nv.blm.gov.

Dated: March 2, 2004.
Dayne Barron,
Field Office Manager, BLM-Eagle Lake Field Office.

[FR Doc. 04-5198 Filed 3-8-04; 8:45 am]

BILLING CODE 4310-HC-P